ENVIRONMENTAL PROTECTION AGENCY

40 CFR Part 63

[OAR-2002-0083; FRL-7962-2]

RIN 2060-AM76

National Emission Standards for Hazardous Air Pollutants for Integrated Iron and Steel Manufacturing

AGENCY: Environmental Protection Agency (EPA).

ACTION: Proposed rule; amendments.

SUMMARY: This action proposes amendments to the national emission standards for hazardous air pollutants (NESHAP) for integrated iron and steel manufacturing. The proposed amendments would add a new compliance option, revise emission limitations, reduce the frequency of repeat performance tests for certain emissions units, add corrective action requirements, and clarify certain monitoring, recordkeeping, and reporting requirements.

DATES: Comments. Comments must be received on or before October 31, 2005.

Public Hearing. If anyone contacts EPA requesting to speak at a public hearing by September 19, 2005, a public hearing will be held approximately 30 days following publication of this action in the Federal Register.

ADDRESSES: Submit your comments, identified by Docket ID No. OAR-2002-0083, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: a-and-r-docket@epa.gov, Attention Docket ID No. OAR-2002-0083 and mulrine.phil@epa.gov.

• Fax: (202) 566-1741 and (919) 541-5450.

• Mail: U.S. Postal Service, send comments to: EPA Docket Center (6102T), Attention Docket Number OAR-2002-0083, 1200 Pennsylvania Ave., NW., Washington, DC 20460.

• Hand Delivery: In person or by courier, deliver comments to: EPA Docket Center (6102T), Attention Docket ID Number OAR-2002-0083, 1301 Constitution Avenue, NW., Room B-102, Washington, DC 20004. Such deliveries are only accepted during the Docket's normal hours of operation, and special arrangements should be made for deliveries of boxed information. Please include a total of two copies. We request that a separate copy of each public comment also be sent to the contact person for the proposed action listed below see(FOR FURTHER INFORMATION CONTACT).

Instructions: Direct your comments to Docket ID No. OAR-2002-0083. EPA's policy is that all comments received will be included in the public docket without change and may be made available online at http://www.epa.gov/edocket, including any personal information provided, unless the comment includes information claimed to be confidential business information (CBI) or other information whose disclosure is restricted by statute. Do not submit information that you consider to be CBI or otherwise protected through EDOCKET, regulations.gov, or e-mail. The EPA EDOCKET and the Federal regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. (For additional information about EPA's public docket, visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the EPA Docket Center, Docket ID Number OAR-2002-0083, EPA West Building, Room B102, 1301 Constitution Ave., NW., Washington, DC. The Public Reading Room is open from 8:30 a.m. to 4:30 p.m., Monday through Friday, excluding legal holidays. The telephone number for the Public Reading Room is (202) 566-1744, and the telephone number for the EPA Docket Center is (202) 566-1742. A reasonable fee may be charged for copying docket materials.

FOR FURTHER INFORMATION CONTACT: Mr. Phil Mulrine, U.S. EPA, Office of Air Quality Planning and Standards, Emission Standards Division, Metals Group (C439-02), Research Triangle Park, NC 27711, telephone (919) 541-5289, fax number (919) 541-5450, e-mail address: mulrine.phil@epa.gov.

SUPPLEMENTARY INFORMATION: Regulated Entities. The regulated categories and entities affected by the NESHAP include:

Category | NAIC code¹ | Examples of regulated entities
Industry | 331111 | Integrated iron and steel mills, steel companies, sinter plants, blast furnaces, basic oxygen process furnace (BOPF) shops.
Federal government |  | Not affected.
State/local/tribal government |  | Not affected.
¹ North American Industry Classification System.

This table is not intended to be exhaustive, but rather provides a guide for readers regarding entities likely to be affected by this action. To determine whether your facility would be regulated by this action, you should examine the applicability criteria in 40 CFR 63.7781 of subpart FFFFF (NESHAP for Integrated Iron and Steel Manufacturing). If you have any questions regarding the applicability of this action to a particular entity, consult either the air permit authority for the entity or your EPA regional representative as listed in 40 CFR 63.13 of subpart A (General Provisions).

Worldwide Web (WWW). In addition to being available in the docket, an electronic copy of today's proposed action will also be available on the Worldwide Web through the Technology Transfer Network (TTN). Following signature, a copy of the proposed action will be posted on the TTN's policy and guidance page for newly proposed or promulgated rules at the following address: http://www.epa.gov/ttn/oarpg/. The TTN provides information and technology exchange in various areas of air pollution control.

Public Hearing. If a public hearing is held, it will begin at 10 a.m. and will be held at EPA's campus in Research Triangle Park, North Carolina, or at an alternate facility nearby. Persons interested in presenting oral testimony or inquiring as to whether a public hearing is to be held should contact Ms. Barbara Miles, Metals Group (C439-02), Emission Standards Division, U.S. EPA, Research Triangle Park, NC 27711, telephone (919) 541-5648.

Outline. The information presented in this preamble is organized as follows:

I. Background

II. Summary of the Proposed Amendments

III. Rationale for the Proposed Amendments

A. Why are we proposing to revise the emission limitations?

B. Why are we proposing to amend monitoring requirements for baghouses?

C. Why are we proposing to revise the requirements for repeat performance tests?

D. Why are we proposing to revise the definition of “ladle metallurgy” to exclude vacuum degassing?

IV. Impacts of the Proposed Amendments

V. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health and Safety Risks

H. Executive Order 13211: Actions Concerning Regulations That Significantly Affect Energy Supply, Distribution, or Use

I. National Technology Transfer Advancement Act

I. Background

On May 20, 2003 (68 FR 27646), we issued the NESHAP for integrated iron and steel manufacturing facilities (40 CFR part 63, subpart FFFFF). The NESHAP implement section 112(d) of the Clean Air Act (CAA) by requiring all major sources to meet emission standards for hazardous air pollutants (HAP) reflecting application of the maximum achievable control technology (MACT). The NESHAP establish emission limitations for emission sources in each new or existing sinter plant, blast furnace, and basic oxygen process furnace (BOPF) shop.

After promulgation of the NESHAP, five steel companies and one trade association filed a petition for review challenging the final standards (AK Steel Corporation et al. v. U.S. Environmental Protection Agency, no. 03-1207, DC Cir.). The petitioners raised issues concerning:

• Failure to respond to substantive industry comments questioning the definitions, subcategorization, control technologies identified, emission standards, testing and monitoring, and other aspects of the rule;

• Failure to provide justification for setting standards for ladle metallurgy operations, sinter plant discharge ends, and sinter coolers;

• Requiring bag leak detection systems to be used for positive pressure baghouse systems that discharge without stacks or from baghouse systems with continuous emission monitors;

• Applying emission standards to control devices that do not discharge to the ambient air;

• Imposing stringent testing, monitoring, inspection, and reporting requirements on insignificant sources;

• Providing for the establishment of source-specific opacity limitations based on opacity observations made during required source performance testing and by specifying use of infeasible technical requirements for such observations; and

• Failing adequately to consider health threshold levels and to allow for alternative emission standards, performance testing requirements or monitoring methods that are demonstrated to provide comparable protection to public health and the environment.

EPA and petitioners anticipate that the amendments to the NESHAP proposed in this notice will resolve these concerns, and EPA and industry petitioners have entered into a settlement agreement whereby EPA agreed to sign a notice proposing these amendments by September 23, 2005. See 70 FR 36383, June 23, 2005 (public notice of settlement agreement pursuant to section 113 of the CAA; EPA received no adverse comment on this notice of settlement).

II. Summary of the Proposed Amendments

The proposed amendments would revise the applicability of the emission limits for sinter cooler stacks at new and existing sinter plants. The revised limits would apply to each sinter cooler instead of to each sinter cooler stack. We are also proposing a 10 percent opacity limit for a sinter cooler at an existing sinter plant instead of the current particulate matter (PM) emission limit of 0.03 grains per dry standard cubic feet (gr/dscf). The proposed amendments would also clarify (in a new footnote to Table 1 of 40 CFR part 63, subpart FFFFF) that PM limits do not apply to discharges inside a building or structure housing a discharge end at an existing sinter plant, inside a casthouse at an existing blast furnace, or inside an existing BOPF shop that is subject to a roof monitor opacity limit. We are proposing to change the frequency for conducting subsequent performance tests from twice each permit term to once each permit term for emission units equipped with a baghouse. Repeat performance tests would still be required at least twice each permit term for a sinter cooler at an existing sinter plant, for each unit equipped with a control device other than a baghouse, and for each affected source without a title V operating permit.

The proposed amendments would revise the operating limit in 40 CFR 63.7790(b)(3) for an electrostatic precipitator (ESP) that controls emissions from a BOPF to require that the hourly average opacity of emissions from the control device be maintained at or below 10 percent.

Section 63.7830(b) of the NESHAP requires a bag leak detection system for each baghouse used to meet a PM limit. The proposed amendments would add an alternative allowing plants to use a continuous opacity monitoring system (COMS) to monitor the opacity of emissions exiting each control device stack. A bag leak detection system or COMS would not be required for a positive-pressure baghouse not equipped with exhaust gas stacks that was installed before August 30, 2005.

We are proposing to revise the requirements for operation and maintenance (O&M) plans. The proposed amendments would expand the corrective action procedures in 40 CFR 63.7800(b)(4) to apply to baghouses equipped with COMS in addition to those with bag leak detection systems. Plants would be required to initiate corrective action if a bag leak detection system alarm is triggered or if emissions from a baghouse equipped with a COMS exceed an hourly average opacity of 5 percent.

We are also proposing to add corrective action procedures for other types of control devices. If a venturi scrubber equipped with continuous parameter monitoring systems (CPMS) or an ESP equipped with a COMS exceeds the opacity operating limit, plants would be required to take corrective action consistent with their site-specific monitoring plan. New provisions in 40 CFR 63.7833 would require plants to initiate corrective action to determine the cause of the exceedance within 1 hour and to measure operating parameter value(s) for the emission unit within 24 hours of the exceedance. If the measured value(s) meet the applicable operating limit, the corrective action is successful and the emission unit would be in compliance with the applicable operating limit. If the initial corrective action is not successful, additional corrective action would be required within the next 24 hours. Plants would re-measure the operating parameter(s) and if the corrective action is successful, the emission unit would be in compliance with the applicable operating limit. If the second attempt at corrective action is not successful, the plant would report the exceedance as a deviation in the next semiannual compliance report.

In other amendments, we are proposing to clarify the requirements for establishing venturi scrubber parametric operating limits in 40 CFR 63.7824(b) by stating that plants may establish the limit during the initial performance test or during any other performance test that meets the emission limit. We are also proposing to revise the definition of “ladle metallurgy” by stating that vacuum degassing is not included in the definition. We are also proposing changes to Table 4 to 40 CFR part 63, subpart FFFFF, which would clarify the applicability of certain monitoring, recordkeeping, and reporting requirements in the NESHAP General Provisions (40 CFR part 63, subpart A) to the rule and correct errors in certain entries.

III. Rationale for the Proposed Amendments

A. Why Are We Proposing To Revise the Emission Limitations?

Sinter Coolers

The petitioners objected to the PM emission limit for sinter cooler stacks (0.03 gr/dscf) for a variety of reasons, including the lack of HAP data to support a standard, the de minimus nature of the emissions, and the high costs for testing and monitoring. In addition, several plants have coolers without stacks that cannot be tested by EPA Method 5 (40 CFR part 60, appendix A). Petitioners contend that an opacity limit would be technically feasible and consistent with State rules.

We agree with the commenters' concerns that the sinter cooler standard should accommodate coolers without stacks. For a sinter cooler at a new affected source, we are proposing to revise the current limit to apply to emissions from each sinter cooler rather than each sinter cooler stack. For sinter coolers at an existing affected source, we are proposing to revise the MACT floor based on State rules and new opacity data. As discussed below, the data clearly show that a 10 percent limit (6-minute average) provides a reasonably accurate picture of the performance achieved by the best-performing sources and can be achieved on a continuing basis.

Our review of sinter coolers indicate that some coolers do not have stacks, and their design and operation make it impractical to install a stack. As promulgated, the final rule does not apply an emission limit to coolers without stacks. We reviewed existing State regulations for sinter coolers and found that some States have opacity limits which provide a practical means for limiting emissions from coolers with and without stacks. The MACT floor based on current opacity limits is determined by the 10 percent (6-minute average) limit that applies to three sinter plants with five sinter coolers in Lake County, Indiana. See Indiana Administrative Code (IAC), 326 IAC 6-1-11.1(d)(7)(A)-(B). We attempted to obtain opacity data for these sources, but the coolers are seldom inspected by the State agency because they are such a low-emitting emission source. We also attempted to obtain self-monitoring data performed by the plants. Data were available for only one of the sinter plant coolers. The plant provided data for 366 observations covering 13 months. The 99th percentile of the observations was 8 percent opacity, and only two observations exceeded 10 percent. These data indicate that a MACT floor of 10 percent opacity based on current State regulations is a reasonable representation of the opacity that can be achieved on a continuing basis by sinter coolers. The proposed opacity limit would apply to the sinter cooler and any discharge of emissions from the cooler; it would not apply to the material transfer point where the sinter is removed from the cooler.

Discharges Inside Buildings

The petitioners explained that at some facilities, control devices discharge to the interior of buildings and not to the ambient air. Other facilities are able to meet opacity limits by using flame suppression and do not have a control device. Facilities with capture systems leading to a control device that then discharge within the building are in effect no different than those systems used to suppress emissions to meet the opacity limit for a building.

The petitioners are correct that the language of the emission limits in Table 1 to 40 CFR part 63, subpart FFFFF (“emissions discharged to the atmosphere”), could be construed to include emissions discharged inside buildings. This is not our intent. In response to the petitioners' concerns, we are proposing amendments to Table 1 to 40 CFR part 63, subpart FFFFF, that would add a footnote to each PM limit for a control device at an existing source stating that the limit does not apply to discharges inside a blast furnace casthouse, BOPF shop, or building housing the discharge end at a sinter plant. The applicable emission limit for these emissions and other fugitive emissions that are discharged through the roof monitor is the opacity limit for the building cited in Table 1 to 40 CFR part 63, subpart FFFFF.

Parametric Operating Limit for Electrostatic Precipitators

The NESHAP establish an operating limit for ESP that control emissions from a BOPF. Plant operators are to set the site-specific limit based on COMS measurements made during the performance test. The commenters contend that variations in BOPF operations make it impractical to set a parametric limit based on a short-term performance test. In addition, the presence of water vapor or steam, which is necessary for optimizing ESP performance, raises issues of interferences in COM readings. The commenters support a 20 percent opacity limit (6-minute average), consistent with State regulations, permit requirements, and the NESHAP for Industrial, Commercial, and Institutional Boilers and Process Heaters (69 FR 55218, September 13, 2004). The petitioners also stated that exceedance of the parametric limit should result in triggering corrective action rather than a violation.

We agree with the petitioners' arguments and are proposing to change the ESP operating limit to a fixed opacity level of 10 percent. This proposed operating limit would be an hourly average to be consistent with other parametric operating limits for control devices. We are also proposing that plant operators take corrective action if the operating limit for an ESP or venturi scrubber is exceeded. The proposed amendments would require plant operators to initiate corrective action within 1 hour. If the limit is still exceeded after 24 hours (i.e., the corrective action was unsuccessful), plant operators would need to take additional corrective action. If the operating limit is exceeded after 24 more hours, we are proposing that the exceedance would be reported as a deviation in the semiannual compliance report. These provisions would not apply in the event of a malfunction, which would be handled according to the startup, shutdown, and malfunction plan.

B. Why Are We Proposing To Amend Monitoring Requirements for Baghouses?

Baghouses Without Exhaust Stacks

The NESHAP require a bag leak detection system for each baghouse used to meet the PM limits. The petitioners point out that EPA's “Fabric Filter Bag Leak Detection Guidance” (EPA-454/R-98-015, September 1997) states that only fabric filters with exhaust stacks are covered by this guidance. Some of the emissions sources covered by the NESHAP use positive pressure baghouses which do not use an exhaust stack. EPA has recognized this problem in other rules.

We agree with the commenters that bag leak detection systems should not be required for fabric filters without exhaust stacks. In response to the commenters' concerns, we are proposing to revise the rule to clarify that bag leak detection systems are required only for negative pressure baghouses and positive pressure baghouses with a stack.

COMS as an Alternative to Bag Leak Detection Systems

The petitioners also point out that some companies already have COMS in place, may be required to install COMS due to State, local, or permit requirements, or may opt for COMS instead of bag leak detection systems if given the choice. These companies should not be required to operate duplicative baghouse monitoring systems.

We agree that COMS, which provide a direct measure of opacity, are certainly a suitable alternative to bag leak detection systems. In response to the petitioners' concerns, we are proposing to increase the flexibility of the NESHAP by adding COMS as a monitoring alternative. This approach is consistent with several other MACT standards, as well as the recent amendments to the new source performance standards (NSPS) for electric arc furnaces (70 FR 8523, February 22, 2005). The proposed amendments would require that the COMS for baghouses meet the same requirements as COMS for ESP. The same corrective action requirements for baghouses also would apply. If a bag leak detection system alarm is triggered or emissions from a baghouse equipped with a COMS exceed an hourly average opacity of 5 percent, the proposed amendments would require plants to initiate corrective action within specified time limits. We are proposing the 5 percent trigger because it is consistent with other MACT standards as well as with the amendments to the NSPS for electric arc furnaces cited above.

C. Why Are We Proposing To Revise the Requirements for Repeat Performance Tests?

The petitioners asked EPA to amend the rule to reduce the costs associated with demonstrating continuous compliance, particularly for well-controlled emissions sources. We are proposing to reduce the frequency of repeat PM and opacity performance tests from twice each permit term to once per term for emission units equipped with a baghouse. The reduced frequency would apply to minor emission units equipped with baghouses because performance would be continuously monitored by a bag leak detection system or COMS.

D. Why Are We Proposing To Revise the Definition of “Ladle Metallurgy” To Exclude Vacuum Degassing?

Vacuum degassing is an advanced steel refining process to remove oxygen, hydrogen, and nitrogen in a vacuum to produce ultra-low carbon steel for certain applications. As such, this process could fall within the definition of “ladle metallurgy.” The petitioners argue that EPA did not acknowledge the fundamental control technology differences for vacuum degassing operations compared to ladle metallurgy operations which are typically controlled by baghouses. They explain that many BOPF shops have vacuum degassing facilities and all use steam ejector/condenser systems; baghouses are not suitable control systems because of the inherent moisture in the gas downstream of the steam ejectors. Although PM emissions are low, these facilities would not be able to achieve the limit for new or existing ladle metallurgy operations.

We agree with the petitioners that the definition of “ladle metallurgy” (a secondary steelmaking process that is performed in a ladle after initial refining in a BOPF to adjust the chemical and/or mechanical properties of steel) could be interpreted to include vacuum degassing. In response to the petitioners' concerns, we are proposing to revise the definition of “ladle metallurgy” to specifically exclude vacuum degassing.

IV. Impacts of the Proposed Amendments

The proposed amendments would not affect the level of emissions control required by the existing NESHAP or the nonair, health, environmental, and energy impacts. However, the costs of implementing the existing rule would be reduced in future years. For example, the proposed reduction in subsequent performance tests for an emissions source equipped with a baghouse would reduce the nationwide cost of PM testing over the next 5 years from $270,000/year to $180,000/year, a savings of $90,000/year.

V. Statutory and Executive Order Reviews

A. Executive Order 12866: Regulatory Planning and Review

Under Executive Order 12866 (58 FR 51735, October 4, 1993), EPA must determine whether the regulatory action is “significant” and, therefore, subject to review by the Office of Management and Budget (OMB) and the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive Order.

It has been determined that these proposed amendments are not a “significant regulatory action” under the terms of Executive Order 12866 and are, therefore, not subject to OMB review.

B. Paperwork Reduction Act

This action does not impose any new information collection burden. The proposed amendments provide additional flexibility through revised requirements for monitoring operational parameters which would not increase the existing information collection burden. Other proposed amendments, such as the reduction in subsequent PM performance tests for certain emissions sources, is expected to decrease the information collection burden in future years. However, OMB has previously approved the information collection requirements contained in the existing regulations (40 CFR part 63, subpart FFFFF) under the provisions of the Paperwork Reduction Act, 44 U.S.C. 3501 et seq. and has assigned OMB control number 2060-0517, EPA Information Collection Request (ICR) number 2003.02. A copy of the OMB approved ICR may be obtained from Susan Auby, by mail at the Office of Environmental Information, Collection Strategies Division, U.S. EPA (2822T), 1200 Pennsylvania Avenue, NW., Washington, DC 20460, by e-mail at Auby.Susan@epa.gov, or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR part 63 are listed in 40 CFR part 9.

C. Regulatory Flexibility Act

The Regulatory Flexibility Act generally requires an agency to prepare a regulatory flexibility analysis of any rule subject to notice and comment rulemaking requirements under the Administrative Procedure Act or any other statute unless the agency certifies that the rule would not have a significant economic impact on a substantial number of small entities. Small entities include small businesses, small not-for-profit enterprises, and small governmental jurisdictions.

For the purposes of assessing the impacts of today's proposed amendments on small entities, small entity is defined as: (1) A small business as defined by the Small Business Administration's regulations at 13 CFR 121.201; (2) a small governmental jurisdiction that is a government of a city, county, town, school district, or special district with a population of less than 50,000; and (3) a small organization that is any not-for-profit enterprise which is independently owned and operated and is not dominant in its field.

After considering the economic impacts of today's proposed amendments on small entities, I certify that this action will not have a significant economic impact on a substantial number of small entities. The proposed amendments would not impose any requirements on small entities. There are no small entities in the regulated industry. We continue to be interested in the potential impacts of the proposed rule on small entities and welcome comments on issues related to such impacts.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or to the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that the proposed amendments do not contain a Federal mandate that may result in expenditures of $100 million or more for State, local, and tribal governments, in the aggregate, or to the private sector in any 1 year. Thus, today's proposed amendments are not subject to the requirements of sections 202 and 205 of the UMRA. In addition, EPA has determined that the proposed amendments contain no regulatory requirements that might significantly or uniquely affect small governments, because they contain no requirements that apply to such governments or impose obligations upon them.

E. Executive Order 13132: Federalism

Executive Order 13132, entitled “Federalism” (64 FR 43255, August 10, 1999) requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

The proposed amendments do not have federalism implications. They would not have substantial direct effects on the States, on the relationship between the national government and the States, or on the distribution of power and responsibilities among the various levels of government, as specified in Executive Order 13132. None of the affected plants are owned or operated by State governments. Thus, Executive Order 13132 does not apply to the proposed amendments. In the spirit of Executive Order 13132, and consistent with EPA policy to promote communications between EPA and State and local governments, EPA specifically solicits comment on this proposed rule from State and local officials.

F. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” The proposed amendments do not have tribal implications, as specified in Executive Order 13175. They would not have substantial direct effects on tribal governments, on the relationship between the Federal government and Indian tribes, or on the distribution of power and responsibilities between the Federal government and Indian tribes, as specified in Executive Order 13175. No tribal governments own plants subject to the MACT standards for integrated iron and steel manufacturing. Thus, Executive Order 13175 does not apply to today's proposed amendments. EPA specifically solicits additional comment on this proposed rule from tribal officials.

G. Executive Order 13045: Protection of Children From Environmental Health & Safety Risks

Executive Order 13045 (62 FR 19885, April 23, 1997) applies to any rule that: (1) Is determined to be “economically significant,” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by EPA.

EPA interprets Executive Order 13045 as applying only to those regulatory actions that are based on health or safety risks, such that the analysis required under section 5-501 of the Executive Order has the potential to influence the regulation. The proposed amendments are not subject to the Executive Order because they are based on control technology and not on health or safety risks.

H. Executive Order 13211: Actions That Significantly Affect Energy Supply, Distribution, or Use

The proposed amendments are not subject to Executive Order 13211 (66 FR 28355, May 22, 2001) because they are not a significant regulatory action under Executive Order 12866.

I. National Technology Transfer Advancement Act

Under section 12(d) of the National Technology Transfer and Advancement Act of 1995 (NTTAA), Public Law No. 104-113, § 12(d) (15 U.S.C. 272 note) directs EPA to use voluntary consensus standards (VCS) in its regulatory activities, unless to do so would be inconsistent with applicable law or otherwise impractical. The VCS are technical standards (e.g., materials specifications, test methods, sampling procedures, and business practices) that are developed or adopted VCS bodies. The NTTAA directs EPA to provide Congress, through OMB, explanations when the Agency does not use available and applicable VCS.

The proposed amendments do not involve technical standards. Therefore, EPA is not considering the use of any VCS.

List of Subjects in 40 CFR Part 63

Environmental protection, Air pollution control, Hazardous substances, Reporting and recordkeeping requirements.

Dated: August 23, 2005.
Stephen L. Johnson,
Administrator.

For the reasons stated in the preamble, title 40, chapter I, part 63 of the Code of Federal Regulations is proposed to be amended as follows:

PART 63—[AMENDED]

1. The authority citation for part 63 continues to read as follows:

Authority: 42 U.S.C. 7401, et seq.

Subpart FFFFF—[AMENDED]

2. Section 63.7790 is amended by revising paragraph (b)(3) to read as follows:

§ 63.7790 What emission limitations must I meet?

* * * * *

(b) * * *

(3) For each electrostatic precipitator applied to emissions from a BOPF, you must maintain the hourly average opacity of emissions exiting the control device at or below 10 percent.

* * * * *

3. Section 63.7800 is amended by:

a. Revising the second sentence in the introductory text of paragraph (b);

b. Revising the introductory text of paragraph (b)(4);

c. Revising paragraph (b)(4)(vi);

d. Redesignating paragraph (b)(5) as (b)(7); and

e. Adding new paragraphs (b)(5) and (b)(6) to read as follows:

§ 63.7800 What are my operation and maintenance requirements?

* * * * *

(b) * * * Each plan must address the elements in paragraphs (b)(1) through (7) of this section.

* * * * *

(4) Corrective action procedures for baghouses equipped with bag leak detection systems or continuous opacity monitoring systems (COMS). In the event a bag leak detection system alarm is triggered or emissions from a baghouse equipped with a COMS exceed an hourly average opacity of 5 percent, you must initiate corrective action to determine the cause of the alarm within 1 hour of the alarm, initiate corrective action to correct the cause of the problem within 24 hours of the alarm, and complete the corrective action as soon as practicable. Corrective actions may include, but are not limited to:

* * * * *

(vi) Shutting down the process producing the particulate emissions.

(5) Corrective action procedures for venturi scrubbers equipped with continuous parameter monitoring systems (CPMS). In the event a venturi scrubber exceeds the operating limit in § 63.7790(b)(2), you must take corrective actions consistent with your site-specific monitoring plan in accordance with § 63.7831(a).

(6) Corrective action procedures for electrostatic precipitators equipped with COMS. In the event an electrostatic precipitator exceeds the operating limit in § 63.7790(b)(3), you must take corrective actions consistent with your site-specific monitoring plan in accordance with § 63.7831(a).

* * * * *

4. Section 63.7821 is revised to read as follows:

(a) You must conduct subsequent performance tests to demonstrate compliance with all applicable PM and opacity limits in Table 1 to this subpart at the frequencies specified in paragraphs (b) through (d) of this section.

(b) For each sinter cooler at an existing sinter plant and each emissions unit equipped with a control device other than a baghouse, you must conduct subsequent performance tests no less frequently than twice (at mid-term and renewal) during each term of your title V operating permit.

(c) For each emissions unit equipped with a baghouse, you must conduct subsequent performance tests no less frequently than once during each term of your title V operating permit.

(d) For sources without a title V operating permit, you must conduct subsequent performance tests every 2.5 years.

5. Section 63.7823 is amended by revising the introductory text of paragraph (c) to read as follows:

§ 63.7823 What test methods and other procedures must I use to demonstrate initial compliance with the opacity limits?

* * * * *

(c) To determine compliance with the applicable opacity limit in Table 1 to this subpart for a sinter cooler at an existing sinter plant, a sinter plant discharge end, or a blast furnace casthouse:

* * * * *

6. Section 63.7824 is amended by:

a. Adding a second sentence to the introductory text of paragraph (b);

b. Revising paragraph (b)(1);

c. Removing paragraph (c);

d. Redesignating paragraphs (d) through (g) as paragraphs (c) through (f);

e. Revising the introductory text of newly designated paragraph (c) and newly designated paragraph (c)(3);

f. Revising the introductory text of newly designated paragraph (d); and

g. Revising the introductory text of newly designated paragraph (e) and newly designated paragraph (e)(4) to read as follows:

§ 63.7824 What test methods and other procedures must I use to establish and demonstrate initial compliance with operating limits?

* * * * *

(b) * * * You may establish the parametric monitoring limit during the initial performance test or during any other performance test run that meets the emission limit.

(1) Using the CPMS required in § 63.7830(c), measure and record the pressure drop and scrubber water flow rate during each run of the particulate matter performance test.

* * * * *

(c) You may change the operating limits for a capture system or venturi scrubber if you meet the requirements in paragraphs (c)(1) through (3) of this section.

* * * * *

(3) Establish revised operating limits according to the applicable procedures in paragraphs (a) and (b) of this section for a control device or capture system.

(d) For each sinter plant subject to the operating limit for the oil content of the sinter plant feedstock in § 63.7790(d)(1), you must demonstrate initial compliance according to the procedures in paragraphs (d)(1) through (3) of this section.

* * * * *

(e) To demonstrate initial compliance with the alternative operating limit for volatile organic compound emissions from the sinter plant windbox exhaust stream in § 63.7790(d)(2), follow the test methods and procedures in paragraphs (e)(1) through (5) of this section.

* * * * *

(4) Continue the sampling and analysis procedures in paragraphs (e)(1) through (3) of this section for 30 consecutive days.

* * * * *

7. Section 63.7825 is amended by:

a. Revising paragraphs (a)(2) and (a)(3);

b. Removing paragraph (a)(4); and

c. Revising paragraph (b) to read as follows:

§ 63.7825 How do I demonstrate initial compliance with the emission limitations that apply to me?

(a) * * *

(2) For each capture system subject to the operating limit in § 63.7790(b)(1), you have established appropriate site-specific operating limit(s) and have a record of the operating parameter data measured during the performance test in accordance with § 63.7824(a)(1); and

(3) For each venturi scrubber subject to the operating limits for pressure drop and scrubber water flow rate in § 63.7790(b)(2), you have established appropriate site-specific operating limits and have a record of the pressure drop and scrubber water flow rate measured during the performance test in accordance with § 63.7824(b).

(b) For each existing or new sinter plant subject to the operating limit in § 63.7790(d)(1), you have demonstrated initial compliance if the 30-day rolling average of the oil content of the feedstock, measured during the initial performance test in accordance with § 63.7824(d) is no more than 0.02 percent. For each existing or new sinter plant subject to the alternative operating limit in § 63.7790(d)(2), you have demonstrated initial compliance if the 30-day rolling average of the volatile organic compound emissions from the sinter plant windbox exhaust stream, measured during the initial performance test in accordance with § 63.7824(e) is no more than 0.2 lb/ton of sinter produced.

* * * * *

8. Section 63.7826 is amended by revising paragraph (b)(1) to read as follows:

§ 63.7826 How do I demonstrate initial compliance with the operation and maintenance requirements that apply to me?

* * * * *

(b) * * *

(1) Prepared the control device operation and maintenance plan according to the requirements of § 63.7800(b), including a preventative maintenance schedule and, as applicable, detailed descriptions of the corrective action procedures for baghouses and other control devices;

* * * * *

9. Section 63.7830 is amended by revising paragraphs (b), (d), (e)(1), and (e)(2) to read as follows:

§ 63.7830 What are my monitoring requirements?

* * * * *

(b) Except as provided in paragraph (b)(3) of this section, you must meet the requirements in paragraph (b)(1) or (2) of this section for each baghouse applied to meet any particulate emission limit in Table 1 of this subpart. You must conduct inspections of each baghouse according to the requirements in paragraph (b)(4) of this section.

(1) Install, operate, and maintain a bag leak detection system according to § 63.7831(f) and monitor the relative change in particulate matter loadings according to the requirements in § 63.7832; or

(2) If you do not install and operate a bag leak detection system, you must install, operate, and maintain a COMS according to the requirements in § 63.7831(h) and monitor the hourly average opacity of emissions exiting each control device stack according to the requirements in § 63.7832.

(3) A bag leak detection system and COMS are not required for a baghouse that meets the requirements in paragraphs (b)(3)(i) and (ii) of this section.

(i) The baghouse is a positive pressure baghouse and is not equipped with exhaust gas stacks; and

(ii) The baghouse was installed before August 30, 2005.

(4) You must conduct inspections of each baghouse at the specified frequencies according to the requirements in paragraphs (b)(4)(i) through (viii) of this section.

(i) Monitor the pressure drop across each baghouse cell each day to ensure pressure drop is within the normal operating range identified in the manual.

(ii) Confirm that dust is being removed from hoppers through weekly visual inspections or other means of ensuring the proper functioning of removal mechanisms.

(iii) Check the compressed air supply for pulse-jet baghouses each day.

(iv) Monitor cleaning cycles to ensure proper operation using an appropriate methodology.

(v) Check bag cleaning mechanisms for proper functioning through monthly visual inspection or equivalent means.

(vi) Make monthly visual checks of bag tension on reverse air and shaker-type baghouses to ensure that bags are not kinked (kneed or bent) or laying on their sides. You do not have to make this check for shaker-type baghouses using self-tensioning (spring-loaded) devices.

(vii) Confirm the physical integrity of the baghouse through quarterly visual inspections of the baghouse interior for air leaks.

(viii) Inspect fans for wear, material buildup, and corrosion through quarterly visual inspections, vibration detectors, or equivalent means.

* * * * *

(d) For each electrostatic precipitator subject to the opacity operating limit in § 63.7790(b)(3), you must install, operate, and maintain a COMS according to the requirements in § 63.7831(h) and monitor the hourly average opacity of emissions exiting each control device stack according to the requirements in § 63.7832.

(e) * * *

(1) Compute and record the 30-day rolling average of the oil content of the feedstock for each operating day using the procedures in § 63.7824(d); or

(2) Compute and record the 30-day rolling average of the volatile organic compound emissions (lbs/ton of sinter) for each operating day using the procedures in § 63.7824(e).

10. Section 63.7831 is amended by:

a. Revising the introductory text of paragraph (a), revising paragraphs (a)(5) and (a)(6), and adding new paragraphs (a)(7) and (a)(8);

b. Revising the introductory text of paragraph (f); and

c. Revising the introductory text of paragraph (h) and revising paragraph (h)(4) to read as follows:

§ 63.7831 What are the installation, operation, and maintenance requirements for my monitors?

(a) For each CPMS required in § 63.7830, you must develop and make available for inspection upon request by the permitting authority a site-specific monitoring plan that addresses the requirements in paragraphs (a)(1) through (8) of this section.

* * * * *

(5) Ongoing data quality assurance procedures in accordance with the general requirements of § 63.8(d);

(6) Ongoing recordkeeping and reporting procedures in accordance with the general requirements of § 63.10(c), paragraph (e)(1), and paragraph (e)(2)(i);

(7) Corrective action procedures you will follow in the event a venturi scrubber exceeds the operating limit in § 63.7790(b)(2); and

(8) Corrective action procedures you will follow in the event an electrostatic precipitator exceeds the operating limit in § 63.7790(b)(3).

* * * * *

(f) For each baghouse equipped with a bag leak detection system according to § 63.7830(b)(1), you must install, operate, and maintain the bag leak detection system according to the requirements in paragraphs (f)(1) through (7) of this section.

* * * * *

(h) For each electrostatic precipitator subject to the opacity operating limit in § 63.7790(b)(3) and each baghouse equipped with a COMS according to § 63.7830(b)(2), you must install, operate, and maintain each COMS according to the requirements in paragraphs (h)(1) through (4) of this section.

* * * * *

(4) COMS data must be reduced to 6-minute averages as specified in § 63.8(g)(2) and to hourly averages where required by this subpart FFFFF.

11. Section 63.7833 is amended by:

a. Revising paragraph (c);

b. Revising the introductory text of paragraph (d) and adding new paragraph (d)(4);

c. Revising the introductory text of paragraph (e), revising paragraph (e)(1), and adding new paragraph (e)(3);

d. Revising paragraphs (f)(1)(i) and (f)(2)(i); and

e. Adding new paragraph (g) to read as follows:

§ 63.7833 How do I demonstrate continuous compliance with the emission limitations that apply to me?

* * * * *

(c) For each baghouse applied to meet any particulate emission limit in Table 1 to this subpart, you must demonstrate continuous compliance by meeting the requirements in paragraph (c)(1) or (2) as applicable, and paragraphs (c)(3) and (4) of this section:

(1) For a baghouse equipped with a bag leak detection system, operating and maintaining each bag leak detection system according to § 63.7831(f) and recording all information needed to document conformance with these requirements. If you increase or decrease the sensitivity of the bag leak detection system beyond the limits specified in § 63.7831(f)(6), you must include a copy of the required written certification by a responsible official in the next semiannual compliance report.

(2) For a baghouse equipped with a COMS, operating and maintaining each COMS and reducing the COMS data according to § 63.7831(h).

(3) Inspecting each baghouse according to the requirements in § 63.7830(b)(4) and maintaining all records needed to document conformance with these requirements.

(4) Maintaining records of the time you initiated corrective action in the event of a bag leak detection system alarm or when the hourly average opacity exceeded 5 percent, the corrective action(s) taken, and the date on which corrective action was completed.

(d) For each venturi scrubber subject to the operating limits for pressure drop and scrubber water flow rate in § 63.7790(b)(2), you must demonstrate continuous compliance by meeting the requirements of paragraphs (d)(1) through (4) of this section:

* * * * *

(4) If the hourly average pressure drop or scrubber water flow rate is below the operating limits, you must follow the corrective action procedures in paragraph (g) of this section.

(e) For each electrostatic precipitator subject to the opacity operating limit in § 63.7790(b)(3), you must demonstrate continuous compliance by meeting the requirements of paragraphs (e)(1) through (3) of this section:

(1) Maintaining the hourly average opacity of emissions no higher than 10 percent; and

* * * * *

(3) If the hourly average opacity of emissions exceeds 10 percent, you must follow the corrective action procedures in paragraph (g) of this section.

(f) * * *

(1) * * *

(i) Computing and recording the 30-day rolling average of the percent oil content for each operating day according to the performance test procedures in § 63.7824(d);

* * * * *

(2) * * *

(i) Computing and recording the 30-day rolling average of the volatile organic compound emissions for each operating day according to the performance test procedures in § 63.7824(e);

* * * * *

(g) If the hourly average pressure drop or water flow rate for a venturi scrubber or hourly average opacity for an electrostatic precipitator exceeds the operating limit, you must follow the procedures in paragraphs (g)(1) through (4) of this section.

(1) You must initiate corrective action to determine the cause of the exceedance within 1 hour. During any period of corrective action, you must continue to monitor and record all required operating parameters for equipment that remains in operation. Within 24 hours of the exceedance, you must measure and record the hourly average operating parameter value for the emission unit on which corrective action was taken. If the hourly average parameter value meets the applicable operating limit, then the corrective action was successful, and the emission unit is in compliance with the applicable operating limit.

(2) If the initial corrective action required in paragraph (g)(1) of this section was not successful, you must complete additional corrective action within the next 24 hours (48 hours from the time of the exceedance). During any period of corrective action, you must continue to monitor and record all required operating parameters for equipment that remains in operation. After this second 24 hour period, you must again measure and record the hourly average operating parameter value for the emission unit on which corrective action was taken. If the hourly average parameter value meets the applicable operating limit, then the corrective action was successful, and the emission unit is in compliance with the applicable operating limit.

(3) For purposes of paragraphs (g)(1) and (2) of this section, in the case of an exceedance of the hourly average opacity operating limit for an electrostatic precipitator, measurements of the hourly average opacity based on visible emission observations in accordance with Method 9 (40 CFR part 60, appendix A) may be taken to evaluate the effectiveness of corrective action.

(4) If the second attempt at corrective action required in paragraph (g)(2) of this section was not successful, you must report the exceedance as a deviation in your next semiannual compliance report according to § 63.7841(b).

12. Section 63.7834 is amended by revising paragraph (a) to read as follows:

§ 63.7834 How do I demonstrate continuous compliance with the operation and maintenance requirements that apply to me?

(a) For each capture system and control device subject to an operating limit in § 63.7790(b), you must demonstrate continuous compliance with the operation and maintenance requirements in § 63.7800(b) by meeting the requirements of paragraphs (a)(1) through (4) of this section:

(1) Making monthly inspections of capture systems and initiating corrective action according to § 63.7800(b)(1) and recording all information needed to document conformance with these requirements;

(2) Performing preventative maintenance according to § 63.7800(b)(2) and recording all information needed to document conformance with these requirements;

(3) Initiating and completing corrective action for a baghouse equipped with a bag leak detection system or COMS according to § 63.7800(b)(4) and recording all information needed to document conformance with these requirements, including the time you initiated corrective action, the corrective action(s) taken, and the date on which corrective action was completed.

(4) Initiating and completing corrective action for a venturi scrubber equipped with a CPMS or an electrostatic precipitator equipped with a COMS according to § 63.7833(g) and recording all information needed to document conformance with these requirements, including the time you initiated corrective action, the corrective action(s) taken within the first 24 hours according to § 63.7833(g)(1) and whether they were successful, the corrective action(s) taken within the second 24 hours according to § 63.7833(g)(2) and whether they were successful, and the date on which corrective action was completed.

* * * * *

13. Section 63.7835 is amended by revising the first sentence in paragraph (a) to read as follows:

§ 63.7835 What other requirements must I meet to demonstrate continuous compliance?

(a) Deviations. Except as provided in § 63.7833(g), you must report each instance in which you did not meet each emission limitation in § 63.7790 that applies to you. * * *

* * * * *

14. Section 63.7851 is amended by revising paragraph (c)(2) to read as follows:

§ 63.7851 Who implements and enforces this subpart?

* * * * *

(c) * * *

(2) Approval of major alternatives to test methods under § 63.7(e)(2)(ii) and paragraph (f) and as defined in § 63.90, except for approval of an alternative method for the oil content of the sinter plant feedstock or volatile organic compound measurements for the sinter plant windbox exhaust stream stack as provided in § 63.7824(f).

* * * * *

15. Section 63.7852 is amended by revising the definition of term “Ladle metallurgy” to read as follows:

§ 63.7852 What definitions apply to this subpart?

* * * * *

Ladle metallurgy means a secondary steelmaking process that is performed typically in a ladle after initial refining in a basic oxygen process furnace to adjust or amend the chemical and/or mechanical properties of steel. This definition does not include vacuum degassing.

* * * * *

16. Table 1 to subpart FFFFF of part 63 is amended by revising entries 3, 5, 6, 7, 9, 10, and 11; and by revising the footnotes to read as follows:

Table 1 to Subpart FFFFF of Part 63.—Emission and Opacity Limits
* * * * * * *
For . . . | You must comply with each of the following . . .
* * * * * * *
3. Each discharge end at an existing sinter plant | a. You must not cause to be discharged to the atmosphere any gases that exit from one or more control devices that contain, on a flow-weighted basis, particulate matter in excess of 0.02 gr/dscf ¹ ² and
| b. You must not cause to be discharged to the atmosphere any secondary emissions that exit any opening in the building or structure housing the discharge end that exhibit opacity greater than 20 percent (6-minute average).
* * * * * * *
5. Each sinter cooler at an existing sinter plant | You must not cause to be discharged to the atmosphere any emissions that exhibit opacity greater than 10 percent (6-minute plant. average).
6. Each sinter cooler at a new sinter plan | You must not cause to be discharged to the atmosphere any gases that contain particulate matter in excess of 0.01 gr/dscf.
7. Each casthouse at an existing blast furnace | a. You must not cause to be discharged to the atmosphere any gases that exit from a control device that contain particulate matter in excess of 0.01 gr/dscf ²; and
| b. You must not cause to be discharged to the atmosphere any secondary emissions that exit any opening in the casthouse or structure housing the blast furnace that exhibit opacity greater than 20 percent (6-minute average).
* * * * * * *
9. Each BOPF at a or existing shop | a. You must not cause to be discharged to the atmosphere any gases that exit from a primary emission control system for a BOPF with a closed hood system at a new or existing BOPF shop that contain, on a flow-weighted basis, particulate matter in excess of 0.03 gr/dscf during the primary oxygen blow ² ³; and
| b. You must not cause to be discharged to the atmosphere any gases that exit from a primary emission control system for a BOPF with an open hood system that contain, on a flow-weighted basis, particulate matter in excess of 0.02 gr/dscf during the steel production cycle for an existing BOPF shop ² ³ or 0.01 gr/dscf during the steel production cycle for a new BOPF shop ³; and
| c. You must not cause to be discharged to the atmosphere any gases that exit from a control device used solely for the collection of secondary emissions from the BOPF that contain particulate matter in excess of 0.01 gr/dscf for an existing BOPF shop ² or 0.0052 gr/dscf for a new BOPF shop.
10. Each hot metal transfer, skimming, and desulfurization operation at a new or existing BOPF shop | You must not cause to be discharged to the atmosphere any gases that exit from a control device that contain particulate matter in excess of 0.01 gr/dscf for an existing BOPF shop ² or 0.003 gr/dscf for a new BOPF shop.
11. Each ladle metallurgy operation at a new or existing BOPF shop | You must not cause to be discharged to the atmosphere any gases that exit from a control device that contain particulate matter in excess of BOPF shop ² or 0.004 gr/dscf for a new BOPF shop.
* * * * * * *
¹ This limit applies if the cooler is vented to the same control device as the discharge end.
² This concentration limit (gr/dscf) for a control device does not apply to discharges inside a building or structure housing the discharge end at an existing sinter plant, inside a casthouse at an existing blast furnace, or inside an existing BOPF shop that is subject to a roof monitor opacity limit in Table 1 to this subpart.
³ This limit applies to control devices operated in parallel for a single BOPF during the oxygen blow.

17. Table 2 to subpart FFFFF of part 63 is amended by revising entries 5 and 6 as follows:

Table 2 to Subpart FFFFF of Part 63.—Initial Compliance With Emission and Opacity Limits
* * * * * * *
For . . . | You have demonstrated initial compliance if . . .
* * * * * * *
5. Each sinter cooler at an existing sinter plant | The opacity of emissions, determined according to the performance test procedures in § 63.7823(c), did not exceed 10 percent (6-minute average).
6. Each sinter cooler at a new sinter plant | The average concentration of particulate matter, measured according to the performance test procedures in § 63.7822(b), did not exceed 0.01 gr/dscf.
* * * * * * *

18. Table 3 to subpart FFFFF of part 63 is revised to read as follows:

Table 3 to Subpart FFFFF of Part 63.—Continuous Compliance With Emission and Opacity Limits
As required in § 63.7833(a), you must demonstrate continuous compliance with the emission and opacity limits according to the following table.
For . . . | You must demonstrate continuous compliance by . . .
1. Each windbox exhaust stream at an existing sinter plant | a. Maintaining emissions of particulate matter at or below 0.4 lb/ton of product sinter; and
| b. Conducting subsequent performance tests at the frequencies specified in § 63.7821.
2. Each windbox exhaust stream at a new sinter plant | a. Maintaining emissions of particulate matter at or below 0.3 lb/ton of product sinter; and
| b. Conducting subsequent performance tests at the frequencies specified in § 63.7821.
3. Each discharge end at an existing sinter plant | a. Maintaining emissions of particulate matter from one or more control devices at or below 0.02 gr/dscf; and
| b. Maintaining the opacity of secondary emissions that exit any opening in the building or structure housing the discharge end at or below 20 percent (6-minute average); and
| c. Conducting subsequent performance tests at the frequencies specified in § 63.7821.
4. Each discharge end at a new sinter plant | a. Maintaining emissions of particulate matter from one or more control devices at or below 0.01 gr/dscf; and
| b. Maintaining the opacity of secondary emissions that exit any opening in the building or structure housing the discharge end at or below 10 percent (6-minute average); and
| c. Conducting subsequent performance tests at the frequencies specified in § 63.7821.
5. Each sinter cooler at an existing sinter plant | a. Maintaining the opacity of emissions that exit any sinter cooler at or below 10 percent (6-minute average); and
| b. Conducting subsequent performance tests at the frequencies specified in § 63.7821.
6. Each sinter cooler at a new sinter plant | a. Maintaining emissions of particulate matter at or below 0.1 gr/dscf; and
| b. Conducting subsequent performance tests at the frequencies specified in § 63.7821.
7. Each casthouse at an existing blast furnace | a. Maintaining emissions of particulate matter from a control device at or below 0.01 gr/dscf; and
| b. Maintaining the opacity of secondary emissions that exit any opening in the casthouse or structure housing the casthouse at or below 20 percent (6-minute average); and
| c. Conducting subsequent performance tests at the frequencies specified in § 63.7821.
8. Each casthouse at a new blast furnace | a. Maintaining emissions of particulate matter from a control device at or below 0.003 gr/dscf; and
| b. Maintaining the opacity of secondary emissions that exit any opening in the casthouse or structure housing the casthouse at or below 15 percent (6-minute average); and
| c. Conducting subsequent performance tests at the frequencies specified in § 63.7821.
9. Each BOPF at a new or existing BOPF shop | a. Maintaining emissions of particulate matter from the primary control system for a BOPF with a closed hood system at or below 0.03 gr/dscf; and
| b. Maintaining emissions of particulate matter from the primary control system for a BOPF with an open hood system at or below 0.02 gr/dscf for an existing BOPF shop or 0.01 gr/dscf for a new BOPF shop; and
| c. Maintaining emissions of particulate matter from a control device applied solely to secondary emissions from a BOPF at or below 0.01 gr/dscf for an existing BOPF shop or 0.0052 gr/dscf for a new BOPF shop; and
| d. Conducting subsequent performance tests at the frequencies specified in § 63.7821.
10. Each hot metal transfer, skimming, and desulfurization operation at a new or existing BOPF shop | a. Maintaining emissions of particulate matter from a control device at or below 0.01 gr/dscf at an existing BOPF or 0.003 gr/dscf for a new BOPF; and
| b. Conducting subsequent performance tests at the frequencies specified in § 63.7821.
11. Each ladle metallurgy operation at a new or existing BOPF shop | a. Maintaining emissions of particulate matter from a control device at or below 0.01 gr/dscf at an existing BOPF shop or 0.004 gr/dscf for a new BOPF shop; and
| b. Conducting subsequent performance tests at the frequencies specified in § 63.7821.
12. Each roof monitor at an existing BOPF shop | a. Maintaining the opacity of secondary emissions that exit any opening in the BOPF shop or other building housing the BOPF shop or shop operation at or below 20 percent (3-minute average); and
| b. Conducting subsequent performance tests at the frequencies specified in § 63.7821.
13. Each roof monitor at a new BOPF shop | a. Maintaining the opacity (for any set of 6-minute averages) of secondary emissions that exit any opening in the BOPF shop or other building housing a bottom-blown BOPF or shop operation at or below 10 percent, except that one 6-minute period greater than 10 percent but no more than 20 percent may occur once per steel production cycle; and
| b. Maintaining the opacity (for any set of 3-minute averages) of secondary emissions that exit any opening in the BOPF shop or other building housing a top-blown BOPF or shop operation at or below 10 percent, except that one 3-minute period greater than 10 percent but less than 20 percent may occur once per steel production cycle; and
| c. Conducting subsequent performance tests at the frequencies specified in § 63.7821.

19. Table 4 to subpart FFFFF of part 63 is amended by revising entry § 63.6(h)(2)(i) and entries §§ 63.8 through 63.10 as follows:

* * * * *

Table 4 to Subpart FFFFF of Part 63.—Applicability of General Provisions to Subpart FFFFF
Citation | Subject | Applies to Subpart FFFFF | Explanation
* * * * * * *
§ 63.6(h)(2)(i) | Determining Compliance with Opacity and VE Standards | No | Subpart FFFFF specifies methods and procedures for determining compliance with opacity emission and operating limits.
* * * * * * *
§ 63.8(a)(1)-(3), (b), (c)(1)-(3), (c)(4)(i)-(ii), (c)(5)-(6), (c)(7)-(8), (f)(1)-(5), (g)(1)-(4) | Monitoring Requirements | Yes | CMS requirements in §§ 63.8(c)(4)(i)-(ii), (c)(5)-(6), (d), and (e) apply only to COMS.
§ 63.8(a)(4) | Additional Monitoring Requirements for Control Devices in § 63.11 | No | Subpart FFFFF does not require flares.
§ 63.8(c)(4) | Continuous Monitoring System Requirements | No | Subpart FFFFF specifies requirements for operation of CMS.
§ 63.8(f)(6) | RATA Alternative | No
§ 63.8(g)(5) | Data Reduction | No | Subpart FFFFF specifies data reduction requirements.
§ 63.9 | Notification Requirements | Yes | Additional notifications for CMS in § 63.9(g) apply only to COMS.
§ 63.10(a), (b)(1), (b)(2)(i)-(xii), (b)(2)(xiv), (b)(3), (c)(1)-(6), (c)(9)-(15), (d), (e)(1)-(2), (e)(4), (f) | Recordkeeping and Reporting Requirements | Yes | Additional records for CMS in § 63.10(c)(1)-(6), (9)-(15), and reports in § 63.10(d)(1)-(2) apply only to COMS.
§ 63.10(b)(2) (xiii) | CMS Records for RATA Alternative | No
§ 63.10(c)(7)-(8) | Records of Excess Emissions and Parameter Monitoring Exceedances for CMS | No | Subpart FFFFF specifies record requirements.
§ 63.10(e)(3) | Excess Emission Reports | No | Subpart FFFFF specifies reporting requirements.
* * * * * * *

[FR Doc. 05-17193 Filed 8-29-05; 8:45 am]

BILLING CODE 6560-50-U